ENVIRONMENTAL PROTECTION AGENCY

[FRL-7236-3]

Draft Guidelines for Ensuring and Maximizing the Quality, Objectivity, Utility, and Integrity of Information Disseminated by the Environmental Protection Agency

AGENCY: Environmental Protection Agency (EPA).

ACTION: Notice of comment request extension.

SUMMARY: The U.S. Environmental Protection Agency (EPA) has developed Draft Guidelines for Ensuring and Maximizing the Quality, Objectivity, Utility, and Integrity of Information Disseminated by the Environmental Protection Agency (Information Quality Guidelines). EPA is extending the comment period regarding its draft Information Quality Guidelines from May 31, 2002 to June 21, 2002.

DATES: Comments must be received on or before June 21, 2002, 11:59 pm EST.

ADDRESSES: Comments should be addressed to: Docket ID No. OEI-10014 which has been established at: U.S. EPA, Northeast Mall, Room B607, 401 M Street SW., Washington, DC 20460. See the “Supplementary Information” section for instructions on submitting comments.

FOR FURTHER INFORMATION CONTACT: Ms. Evangeline Tsibris Cummings, Environmental Protection Agency, Office of Environmental Information, Telephone: 202-566-0621; Fax: 202-566-0706; e-mail: cummings.evangeline@epa.gov.

SUPPLEMENTARY INFORMATION: EPA has developed draft Information Quality Guidelines, in response to an Office of Management and Budget (OMB) guideline directing all Federal agencies to develop and implement their own guidelines by October 1, 2002 (67 FR 8451, February 22, 2002). The draft Information Quality Guidelines are available at the EPA web site, www.epa.gov/oei/qualityguidelines. Comments may be submitted by web site, e-mail, mail, facsimile, or in person. EPA encourages you to submit your comments electronically to ensure timely receipt. Please visit the EPA web site, www.epa.gov/oei/qualityguidelines, or the previous notice (67 FR 21234-21235, April 30, 2002) for instructions on how to submit your comments.

Dated: June 14, 2002.
Mark Luttner,
Director, Office of Information Collection, Office of Environmental Information.

[FR Doc. 02-15724 Filed 6-20-02; 8:45 am]

BILLING CODE 6560-50-P